DEPARTMENT OF HOMELAND SECURITY

Transportation Security Administration

[Docket No. TSA-2015-0001]

Extension of Agency Information Collection Activity Under OMB Review: Security Training for Surface Transportation Employees

AGENCY: Transportation Security Administration, DHS.

ACTION: 30-Day notice.

SUMMARY: This notice announces that the Transportation Security Administration (TSA) has forwarded the Information Collection Request (ICR), Office of Management and Budget (OMB) control number 1652-0066, abstracted below, that we will submit to OMB for an extension in compliance with the Paperwork Reduction Act (PRA). The ICR describes the nature of the information collection and its expected burden. The collection involves information to validate compliance with the regulatory requirements, including Security Training Programs, Security Training Records, Security Coordinator Information, and Reporting Significant Security Concerns Information.

DATES: Send your comments by May 18, 2023. A comment to OMB is most effective if OMB receives it within 30 days of publication.

ADDRESSES: Written comments and recommendations for the proposed information collection should be sent within 30 days of publication of this notice to www.reginfo.gov/public/do/PRAMain. Find this particular information collection by selecting “Currently under Review—Open for Public Comments” and by using the find function.

FOR FURTHER INFORMATION CONTACT: Christina A. Walsh, TSA PRA Officer, Information Technology, TSA-11, Transportation Security Administration, 6595 Springfield Center Drive, Springfield, VA 20598-6011; telephone (571) 227-2062; email TSAPRA@tsa.dhs.gov.

SUPPLEMENTARY INFORMATION: TSA published a Federal Register notice, with a 60-day comment period soliciting comments, of the following collection of information on January 10, 2023, 88 FR 1397.

Comments Invited

In accordance with the Paperwork Reduction Act of 1995 (44 U.S.C. 3501 et seq.), an agency may not conduct or sponsor, and a person is not required to respond to, a collection of information unless it displays a valid OMB control number. The ICR documentation will be available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Security Training for Surface Transportation Employees.

Type of Request: Extension of a currently approved collection.

OMB Control Number: 1652-0066.

Forms(s): NA.

Affected Public: Higher-risk public transportation agencies and passenger railroads, freight railroads, and Over-the-Road Buses.

Abstract: TSA was established by the Aviation and Transportation Security Act (ATSA) as the primary federal authority to enhance security for all modes of transportation.¹ The scope of TSA's authority includes assessing security risks, developing security measures to address identified risks, and enforcing compliance with these measures.² TSA also has broad regulatory authority to issue, rescind, revise, and enforce, regulations as necessary to carry out its transportation security functions.³

¹ Public Law 107-71 (115 Stat. 597; Nov. 19, 2001). ATSA created TSA as a component of the Department of Transportation. Section 403(2) of the Homeland Security Act of 2002 (HSA), Public Law 107-296 (116 Stat. 2135; Nov. 25, 2002), transferred all functions related to transportation security, including those of the Secretary of Transportation and the Under Secretary of Transportation for Security, to the Secretary of Homeland Security. Pursuant to DHS Delegation Number 7060.2, the Secretary delegated to the Administrator, subject to the Secretary's guidance and control, the authority vested in the Secretary with respect to TSA, including the authority in sec. 403(2) of the HSA.

² See 49 U.S.C. 114, which codified section 101 of ATSA.

³ 49 U.S.C. 114(l)(1).

As part of the Implementing Recommendations of the 9/11 Commission Act of 2007 (9/11 Act),⁴ Congress mandated regulations to enhance surface transportation security through security training of frontline employees. The mandate includes prescriptive requirements for who must be trained, what the training must encompass, and how to submit and obtain approval for a training program.⁵ The 9/11 Act also mandates regulations requiring higher-risk railroads and over-the-road buses to appoint security coordinators.⁶

⁴ Public Law 110-53 (121 Stat. 266; Aug. 3, 2007).

⁵ See secs. 1408, 1517, and 1534 of the 9/11 Act, codified at 6 U.S.C. 1137, 1167, and 1184, respectively.

⁶ See secs. 1512 and 1531 of the 9/11 Act, codified at 6 U.S.C. 1162 and 1181, respectively.

In accordance with these authorities and mandates, TSA published the Security Training for Surface Transportation Employees Final Rule (Rule). See 85 FR 16456 (March 23, 2020). This Rule requires owner/operators of higher-risk freight railroad carriers, public transportation agencies (including rail mass transit and bus systems), passenger railroad carriers, and over-the-road bus companies to provide TSA-approved security training to employees who perform security-sensitive functions. In addition, TSA expanded its requirements for security coordinators and the reporting of significant security concerns, including bus operations, within the scope of the regulation. See 49 CFR parts 1570, 1580, 1582, and 1584.

The information collection mandated by the Rule includes requiring a security training program, maintaining security training records, designating security coordinator and reporting significant security concerns information.

Number of Respondents: 218.

Estimated Annual Burden Hours: An estimated 4,623 hours annually.

Dated: April 12, 2023 .
Christina A. Walsh,
TSA Paperwork Reduction Act Officer, Information Technology.

[FR Doc. 2023-08138 Filed 4-17-23; 8:45 am]

BILLING CODE 9110-05-P